DEPARTMENT OF TRANSPORTATION

Surface Transportation Board

[STB Finance Docket No. 34913]

Genesee & Wyoming Inc.—Continuance in Control Exemption—Chattahoochee Bay Railroad, Inc.

AGENCY: Surface Transportation Board.

ACTION: Notice of exemption.

SUMMARY: The Board grants an exemption, under 49 U.S.C. 10502, from the prior approval requirements of 49 U.S.C. 11323-25 for Genesee & Wyoming Inc. (GWI), a noncarrier, to continue in control of Chattahoochee Bay Railroad, Inc. (CBRR), upon CBRR's becoming a rail carrier in a related transaction involving the acquisition and operation of certain rail assets of H&S Railroad Company, Inc., and Chattahoochee & Gulf Railroad Co., Inc., Class III rail carriers,¹ subject to labor protective conditions. GWI is a holding company that directly or indirectly controls one Class II rail carrier and 23 operating Class III rail carriers. The rail assets acquired by CBRR in the related transaction connect with the rail line of an operating Class III rail carrier controlled by GWI.

¹ See Chattahoochee Bay Railroad, Inc.—Acquisition and Operation Exemption—Certain Assets of H&S Railroad Company, Inc., and Chattahoochee & Gulf Railroad Co., Inc., STB Finance Docket No. 34912 (STB served Sept. 15, 2006).

DATES: This exemption will be effective on November 24, 2006. Petitions to stay must be filed by November 20, 2006. Petitions to reopen must be filed by December 4, 2006.

ADDRESSES: Send an original and 10 copies of all pleadings, referring to STB Finance Docket No. 34913, to: Surface Transportation Board, 1925 K Street, NW., Washington, DC 20423-0001. In addition, send one copy of pleadings to Kevin M. Sheys, Kirkpatrick & Lockhart Nicholson Graham LLP, 1601 K Street, NW., Washington, DC 20006.

FOR FURTHER INFORMATION CONTACT: Melissa Ziembicki, (202) 565-1604 [Assistance for the hearing impaired is available through the Federal Information Relay Service (FIRS) at 1-800-877-8339].

SUPPLEMENTARY INFORMATION: Additional information is contained in the Board's decision. To purchase a copy of the full decision, write to, e-mail or call: ASAP Document Solutions, 9332 Annapolis Rd., Suite 103, Lanham, MD 20706; e-mail asapdc@verizon.net; telephone (202) 306-4004. [Assistance for the hearing impaired is available through FIRS at 1-800-877-8339].

Board decisions and notices are available on our Web site at http://www.stb.dot.gov.

Decided: November 1, 2006.
By the Board, Chairman Nottingham, Vice Chairman Mulvey, and Commissioner Buttrey.
Vernon A. Williams,
Secretary.

[FR Doc. E6-19039 Filed 11-8-06; 8:45 am]

BILLING CODE 4915-01-P